DEPARTMENT OF DEFENSE

Department of the Army

Board of Visitors, United States Military Academy

AGENCY: United States Military Academy.

ACTION: Notice of Open Meeting.

SUMMARY: In accordance with Section 10(a)(2) of the Federal Advisory Committee Act (Pub. L. 92-463), announcement is made of the following meeting:

Name of Committee: Board of Visitors, United States Military Academy.

Date of Meeting: 28 February 2001.

Place of Meeting: Veteran Affairs Conference Room, Room 418, Senate Russell Office Bldg., Washington, DC.

Start Time of Meeting: Approximately 9:30 a.m.

FOR FURTHER INFORMATION CONTACT: For further information, contact Lieutenant Colonel John L. Pothin, United States Military Academy, West Point, NY 10996-5000, (845) 938-4200.

SUPPLEMENTARY INFORMATION: Proposed Agenda: Organizational Meeting of the Board of Visitors. All proceedings are open.

Gregory D. Showalter,
Army Federal Register Liaison Officer.

[FR Doc. 01-2778 Filed 1-31-01; 8:45 am]

BILLING CODE 3710-08-M